ENVIRONMENTAL PROTECTION AGENCY

[ER-FRL-6662-1]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7146.

Summary of Rating Definitions

Environmental Impact of the Action

LO—Lack of Objections

The EPA review has not identified any potential environmental impacts requiring substantive changes to the proposal. The review may have disclosed opportunities for application of mitigation measures that could be accomplished with no more than minor changes to the proposal.

EC—Environmental Concerns

The EPA review has identified environmental impacts that should be avoided in order to fully protect the environment. Corrective measures may require changes to the preferred alternative or application of mitigation measures that can reduce the environmental impact. EPA would like to work with the lead agency to reduce these impacts.

EO—Environmental Objections

The EPA review has identified significant environmental impacts that must be avoided in order to provide adequate protection for the environment. Corrective measures may require substantial changes to the preferred alternative or consideration of some other project alternative (including the no action alternative or a new alternative). EPA intends to work with the lead agency to reduce these impacts.

EO—Environmentally Unsatisfactory

The EPA review has identified adverse environmental impacts that are of sufficient magnitude that they are unsatisfactory from the standpoint of public health or welfare or environmental quality. EPA intends to work with the lead agency to reduce these impacts. If the potentially unsatisfactory impacts are not corrected at the final EIS stage, this proposal will be recommended for referral to the CEQ.

Adequacy of the Impact Statement

Category 1—Adequate

EPA believes the draft EIS adequately sets forth the environmental impact(s) of the preferred alternative and those of the alternatives reasonably available to the project or action. No further analysis or data collection is necessary, but the reviewer may suggest the addition of clarifying language or information.

Category 2—Insufficient Information

The draft EIS does not contain sufficient information for EPA to fully assess environmental impacts that should be avoided in order to fully protect the environment, or the EPA reviewer has identified new reasonably available alternatives that are within the spectrum of alternatives analyzed in the draft EIS, which could reduce the environmental impacts of the action. The identified additional information, data, analyses, or discussion should be included in the final EIS.

Category 3—Inadequate

EPA does not believe that the draft EIS adequately assesses potentially significant environmental impacts of the action, or the EPA reviewer has identified new, reasonably available alternatives that are outside of the spectrum of alternatives analyzed in the draft EIS, which should be analyzed in order to reduce the potentially significant environmental impacts. EPA believes that the identified additional information, data, analyses, or discussions are of such a magnitude that they should have full public review at a draft stage. EPA does not believe that the draft EIS is adequate for the purposes of the NEPA and/or Section 309 review, and thus should be formally revised and made available for public comment in a supplemental or revised draft EIS. On the basis of the potential significant impacts involved, this proposal could be a candidate for referral to the CEQ.

Draft EISs

ERP No. D-COE-C32036-NY Rating EC2, Hudson River at Athens, New York Navigation Project, Design and Construction of a Spur Navigation Channel, Hudson River, New York City, NY.

Summary: EPA expressed concerns about the project's economic viability, the scope of the project's dredging and sediment disposal, the impacts to water quality, fish and wildlife species and habitat, and the indirect and cumulative impacts, and requested that additional information, especially Habitat Impairment Test results, be presented in the Final EIS to address these issues.

ERP No. D-COE-E11055-NC Rating LO, Fort Bragg Headquarters for XVIII Airborne Corps and Army Special Operations Command, To Fully Integrate the Overhill Tract Training Program, Cumberland and Harnett Counties, NC.

Summary: EPA has no objections to the proposed project. ERP No. D-FHW-F40428-OH Rating EC2, OH-823, Portsmouth Bypass Project, Transportation Improvements, Funding and U.S. Army COE Section 404 Permit, Appalachian Development Highway, Scioto County, OH.

Summary: EPA has environmental concerns about the proposed project related to upland forest habitat losses, forest fragmentation, and potential for stream sedimentation. EPA also recommends additional analysis of the cumulative impacts related to forest fragmentation be included in the FEIS.

ERP No. D-FRC-G03024-TX Rating EC2, Vista del Sol Liquefied Natural Gas (LNG) Terminal Project, Construct, Install and Operate an LNG Terminal and Natural Gas Pipeline Facilities, Vista del Sol LNG Terminal LP and Vista del Sol Pipeline LP, TX.

Summary: EPA identified environmental concerns that may require changes to the preferred alternative and mitigation measures to reduce environmental impact. EPA requested additional information to be included in the FEIS, including information regarding wetland impacts, mitigation, contaminant testing and the suitability of dredged material for beneficial use.

Final EISs

ERP No. F-FAA-K51039-CA, Los Angeles International Airport Proposed Master Plan Improvements, Alternative D Selected, Enhanced Safety and Security Plan, Los Angeles County, CA.

Summary: EPA continues to express environmental concerns about potential effects to air quality, and requested additional mitigation measures to reduce airport-related emissions of particulate matter and air toxic. ERP No. FS-BIA-A65165-00 Programmatic EIS—Navajo Nation 10-Year Forest Management Plan, Selected Preferred Alternative Four, Chuska Mountain and Defiance Plateau Area, AZ and NM.

Summary: EPA has continuing concerns regarding cumulative impacts to water quality and riparian habitat from existing impaired conditions, including exceedances of Navajo Nation Water Quality Standards.

Dated: March 29, 2005.
Robert W. Hargrove,
Director, NEPA Compliance Division, Office of Federal Activities.

[FR Doc. 05-6491 Filed 3-31-05; 8:45 am]

BILLING CODE 6560-50-P